DEPARTMENT OF DEFENSE

Department of the Army, Corps of Engineers

Inland Waterways Users Board Meeting Notice

AGENCY: Department of the Army, U.S. Army Corps of Engineers, DoD.

ACTION: Notice of open Federal advisory committee virtual meeting.

SUMMARY: The Department of the Army is publishing this notice to announce the Federal advisory committee online virtual meeting of the U.S. Army Corps of Engineers, Inland Waterways Users Board (Board). This meeting is open to the public. For additional information about the Board, please visit the committee's website at http://www.iwr.usace.army.mil/Missions/Navigation/InlandWaterwaysUsersBoard.aspx.

DATES: The Army Corps of Engineers, Inland Waterways Users Board will conduct an online virtual meet from 1:00 p.m. to 5:00 p.m. on July 22, 2020.

ADDRESSES: Online Virtual Meeting. The Inland Waterways Users Board will be an online virtual meeting. The online virtual meeting can be accessed at https://usace.webex.com/meet/ndc.nav, Public Call-in: USA Toll-Free 866-434-5269, USA Caller Paid/International Toll: 216-706-7005 Access Code: 4935871, Security Code 1234.

FOR FURTHER INFORMATION CONTACT: Mr. Mark R. Pointon, the Designated Federal Officer (DFO) for the committee, in writing at the Institute for Water Resources, U.S. Army Corps of Engineers, ATTN: CEIWR-GM, 7701 Telegraph Road, Casey Building, Alexandria, VA 22315-3868; by telephone at 703-428-6438; and by email at Mark.Pointon@usace.army.mil. Alternatively, contact Mr. Steven D. Riley, an Alternate Designated Federal Officer (ADFO), in writing at the Institute for Water Resources, U.S. Army Corps of Engineers, ATTN: CEIWR-NDC, 7701 Telegraph Road, Casey Building, Alexandria, VA 22315-3868; by telephone at 703-659-3097; and by email at Steven.D.Riley@usace.army.mil.

SUPPLEMENTARY INFORMATION: The committee meeting is being held under the provisions of the Federal Advisory Committee Act of 1972 (5 U.S.C., Appendix, as amended), the Government in the Sunshine Act of 1976 (5 U.S.C. 552b, as amended), and 41 CFR 102-3.150.

Purpose of the Meeting: The Board is chartered to provide independent advice and recommendations to the Secretary of the Army on construction and rehabilitation project investments on the commercial navigation features of the inland waterways system of the United States. At this meeting, the Board will receive briefings and presentations regarding the investments, projects and status of the inland waterways system of the United States and conduct discussions and deliberations on those matters. The Board is interested in written and verbal comments from the public relevant to these purposes.

Agenda: At this meeting the agenda will include the status of FY 2020 funding for inland and coastal Navigation; status of the Inland Waterways Trust Fund (IWTF); Waterborne Commerce Data Collection Update; status of the construction activities for Olmsted Locks and Dam Project, the Monongahela River Locks and Dams 2, 3, and 4 Project, the Chickamauga Lock Project and the Kentucky Lock Project; the status of the inland waterways Capital Investment Strategy development; and provide follow up information from the previous meeting, including the Three Rivers project and Upper Ohio River study.

Availability of Materials for the Meeting. A copy of the agenda or any updates to the agenda for the July 22, 2020 virtual meeting will be available. The final version will be available at the virtual meeting. All materials will be posted to the website after the meeting.

Public Accessibility to the Meeting: Pursuant to 5 U.S.C. 552b, as amended, and 41 CFR 102-3.140 through 102-3.1 65, and subject to the availability of space, this virtual meeting is open to the public. Registration of members of the public who wish to participate in the virtual meeting will begin at 12:15 p.m. on the day of the meeting. Participation is on a first-to-arrive basis. Any interested person may participate in the meeting, file written comments or statements with the committee, or make verbal comments during the virtual public meeting, at the times, and in the manner, permitted by the committee, as set forth below.

Special Accommodations: Individuals requiring any special accommodations related to the virtual public meeting or seeking additional information about the procedures, should contact Mr. Pointon, the committee DFO, or Mr. Riley, an ADFO, at the email addresses or telephone numbers listed in the FOR FURTHER INFORMATION CONTACT section, at least five (5) business days prior to the meeting so that appropriate arrangements can be made.

Written Comments or Statements: Pursuant to 41 CFR 102-3.105(j) and 102-3.140 and section 10(a)(3) of the Federal Advisory Committee Act, the public or interested organizations may submit written comments or statements to the Board about its mission and/or the topics to be addressed in this virtual public meeting. Written comments or statements should be submitted to Mr. Pointon, the committee DFO, or Mr. Riley, a committee ADFO, via electronic mail, the preferred mode of submission, at the addresses listed in the FOR FURTHER INFORMATION CONTACT section in the following formats: Adobe Acrobat or Microsoft Word. The comment or statement must include the author's name, title, affiliation, address, and daytime telephone number. Written comments or statements being submitted in response to the agenda set forth in this notice must be received by the committee DFO or ADFO at least five (5) business days prior to the meeting so that they may be made available to the Board for its consideration prior to the meeting. Written comments or statements received after this date may not be provided to the Board until its next meeting. Please note that because the Board operates under the provisions of the Federal Advisory Committee Act, as amended, all written comments will be treated as public documents and will be made available for public inspection.

Verbal Comments: Members of the public will be permitted to make verbal comments during the virtual public meeting only at the time and in the manner allowed herein. If a member of the public is interested in making a verbal comment at the open virtual meeting, that individual must submit a request, with a brief statement of the subject matter to be addressed by the comment, at least three business (3) days in advance to the committee DFO or ADFO, via electronic mail, the preferred mode of submission, at the addresses listed in the FOR FURTHER INFORMATION CONTACT section. The committee DFO and ADFO will log each request to make a comment, in the order received, and determine whether the subject matter of each comment is relevant to the Board's mission and/or the topics to be addressed in this public meeting. A 15-minute period near the end of the meeting will be available for verbal public comments. Members of the public who have requested to make a verbal comment and whose comments have been deemed relevant under the process described above, will be allotted no more than three (3) minutes during this period, and will be invited to speak in the order in which their requests were received by the DFO and ADFO.

Thomas Patrick Smith,
Chief, Operations and Regulatory Division, Directorate of Civil Works, U.S. Army Corp of Engineers.

[FR Doc. 2020-13543 Filed 6-24-20; 8:45 am]

BILLING CODE 3720-58-P